DEPARTMENT OF THE INTERIOR

Fish and Wildlife Service

[FWS-R8-ES-2014-N144; FXES11130800000-145-FF08E00000]

Endangered Species Recovery Permit Applications

AGENCY: Fish and Wildlife Service, Interior.

ACTION: Notice of receipt of permit applications; request for comment.

SUMMARY: We, the U.S. Fish and Wildlife Service, invite the public to comment on the following applications to conduct certain activities with endangered species. With some exceptions, the Endangered Species Act (Act) prohibits activities with endangered and threatened species unless a Federal permit allows such activity. The Act also requires that we invite public comment before issuing recovery permits to conduct certain activities with endangered species.

DATES: Comments on these permit applications must be received on or before August 25, 2014.

ADDRESSES: Written data or comments should be submitted to the Endangered Species Program Manager, U.S. Fish and Wildlife Service, Region 8, 2800 Cottage Way, Room W-2606, Sacramento, CA 95825 (telephone: 916-414-6464; fax: 916-414-6486). Please refer to the respective permit number for each application when submitting comments.

FOR FURTHER INFORMATION CONTACT: Daniel Marquez, Fish and Wildlife Biologist; see ADDRESSES (telephone: 760-431-9440; fax: 760-431-9624).

SUPPLEMENTARY INFORMATION: The following applicants have applied for scientific research permits to conduct certain activities with endangered species under section 10(a)(1)(A) of the Act (16 U.S.C. 1531 et seq.). We seek review and comment from local, State, and Federal agencies and the public on the following permit requests.

Applicants

Permit No. TE-837448

Applicant: Douglas W. Allen, San Diego, California

The applicant requests an amendment to a permit to take (capture, collect, transport, hatch, identify, and rear) the Riverside fairy shrimp (Streptocephalus woottoni) and San Diego fairy shrimp (Branchinecta sandiegonensis), in conjunction with fairy shrimp cyst identification activities throughout the range of each species in California for the purpose of enhancing the species' survival.

Permit No. TE-034101

Applicant: Naval Facilities Engineering Command, Southwest, San Diego, California

The applicant requests a permit renewal to take (harass by survey, locate and monitor nests, capture, band, color-band, measure, and release) the coastal California gnatcatcher (Polioptila californica californica), western snowy plover (Pacific Coast population Distinct Population Segment (DPS)) (Charadrius nivosus nivosus), and California least tern (Sternula antillarum browni) (Sterna a. browni); take (harass by survey and locate and monitor nests) the southwestern willow flycatcher (Empidonax traillii extimus); take (locate and monitor nests) the least Bell's vireo (Vireo bellii pusillus); take (capture, collect, and collect vouchers) the Riverside fairy shrimp (Streptocephalus woottoni), San Diego fairy shrimp (Branchinecta sandiegonensis), and vernal pool tadpole shrimp (Lepidurus packardi); and take (harass by survey) the Quino checkerspot butterfly (Euphydryas editha quino), in conjunction with surveys and population monitoring activities throughout the range of each species in California for the purpose of enhancing the species' survival.

Permit No. TE-33292B

Applicant: Tehama Environmental Solutions, Inc., Tehama, California

The applicant requests a permit to take (capture, collect, and collect vouchers) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi) in conjunction with survey activities throughout the range of each species in California for the purpose of enhancing the species' survival.

Permit No. TE-34570A

Applicant: San Francisco Bay Bird Observatory, Milpitas, California

The applicant requests a permit renewal to take (harass by survey, locate and monitor nests, and monitor nests with cameras) the California least tern (Sternula antillarum browni) (Sterna a. browni) in conjunction with surveys and population monitoring activities as specified in Santa Clara, San Mateo, Alameda, and Napa Counties, California, for the purpose of enhancing the species' survival.

Permit No. TE-48149A

Applicant: Tammy C. Lim, Oakland, California

The applicant requests an amendment to a permit to take (harass by survey, capture, handle, mark, collect tissue samples, and release) the California tiger salamander (Santa Barbara County DPS and Sonoma County DPS) (Ambystoma californiense) in conjunction with surveys, research, and population monitoring throughout the range of the species in California for the purpose of enhancing the species' survival.

Permit No. TE-049693

Applicant: Jody Gallaway, Chico, California

The applicant requests a permit renewal to take (capture, collect vouchers, and translocate soil containing vernal pool fairy shrimp cysts) the Conservancy fairy shrimp (Branchinecta conservatio), longhorn fairy shrimp (Branchinecta longiantenna), and vernal pool tadpole shrimp (Lepidurus packardi), in conjunction with survey and habitat enhancement activities in Butte, Glenn, Tehama, Shasta, Sacramento, Placer, and Sutter Counties, California, for the purpose of enhancing the species' survival.

Permit No. TE-36118B

Applicant: Callie J. Ford, Escondido, California

The applicant requests a permit to take (survey by pursuit) the Quino checkerspot butterfly (Euphydryas editha quino) in conjunction with survey activities throughout the range of the species in California for the purpose of enhancing the species' survival.

Permit No. TE-788133

Applicant: Vincent N. Scheidt, San Diego, California

The applicant requests a permit renewal to take (survey by pursuit) the Quino checkerspot butterfly (Euphydryas editha quino) in conjunction with survey activities throughout the range of the species in California for the purpose of enhancing the species' survival.

Permit No. TE-797267

Applicant: Triple HS Incorporated, Los Gatos, California

The applicant requests a permit amendment to take (harass by survey, capture, handle, and release) the tidewater goby (Eucyclogobius newberryi) in conjunction with surveys, research, and population monitoring activities in Mendocino County, California, for the purpose of enhancing the species' survival.

Permit No. TE-110095

Applicant: John H. Davis, Oxnard, California

The applicant requests a permit renewal to take (locate, capture, handle, measure, release, and relocate) the Morro shoulderband snail (Banded dune) (Helminthoglypta walkeriana), and take (capture, collect, and collect vouchers) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi) in conjunction with surveys and habitat monitoring activities throughout the range of each species in California for the purpose of enhancing the species' survival.

Permit No. TE-060688

Applicant: Mark Bellini, Ojai, California

The applicant requests a permit amendment to take (harass by survey, locate and monitor nests) the southwestern willow flycatcher (Empidonax traillii extimus) in conjunction with survey and population monitoring activities throughout the range of the species in California and Nevada for the purpose of enhancing the species' survival.

Permit No. TE-190302

Applicant: Mitch C. Siemens, Arroyo Grande, California

The applicant requests an amendment to a permit to take (harass by survey, capture, handle, and release) the California tiger salamander (Santa Barbara County DPS and Sonoma County DPS) (Ambystoma californiense) in conjunction with surveys and population monitoring activities throughout the range of the species in California for the purpose of enhancing the species' survival.

Permit No. TE-821967

Applicant: J. Paul Galvin, Irvine, California

The applicant requests a permit renewal to take (harass by survey and locate and monitor nests, capture, band, color-band, and release) the southwestern willow flycatcher (Empidonax traillii extimus); take (locate and monitor nests) the least Bell's vireo (Vireo bellii pusillus); and take (capture, collect, and collect vouchers) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi), in conjunction with survey and population monitoring activities throughout the range of each species in California, Nevada, and Arizona, for the purpose of enhancing the species' survival.

Permit No. TE-101743

Applicant: Daniel Edelstein, Novato, California

The applicant requests a permit renewal to take (capture, collect, and collect vouchers) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi); take (harass by survey) the California clapper rail (Rallus longirostris obsoletus); and take (harass by survey, capture, handle, and release) the California tiger salamander (Santa Barbara County DPS and Sonoma County DPS) (Ambystoma californiense) in conjunction with surveys and population monitoring activities throughout the range of each species in California for the purpose of enhancing the species' survival.

Permit No. TE-025792

Applicant: Samuel S. Sweet, Santa Barbara, California

The applicant requests an amendment to a permit to take (harass by survey, capture, handle, mark, collect tissue samples, and release) the California tiger salamander (Santa Barbara County DPS) (Ambystoma californiense) in conjunction with surveys, research, and population monitoring throughout the range of the species in California for the purpose of enhancing the species' survival.

Public Comments

We invite public review and comment on each of these recovery permit applications. Comments and materials we receive will be available for public inspection, by appointment, during normal business hours at the address listed in the ADDRESSES section of this notice.

Before including your address, phone number, email address, or other personal identifying information in your comment, you should be aware that your entire comment—including your personal identifying information—may be made publicly available at any time. While you can ask us in your comment to withhold your personal identifying information from public review, we cannot guarantee that we will be able to do so.

Michael Long,
Acting Regional Director, Pacific Southwest Region, Sacramento, California.

[FR Doc. 2014-17411 Filed 7-23-14; 8:45 am]

BILLING CODE 4310-55-P